DEPARTMENT OF HOMELAND SECURITY

Coast Guard

33 CFR Part 165

[Docket No. USCG-2011-0505]

RIN 1625-AA87

Security Zone; 2011 Seattle Seafair Fleet Week Moving Vessels, Puget Sound, Washington

AGENCY: Coast Guard, DHS.

ACTION: Temporary final rule.

SUMMARY: The U.S. Coast Guard is establishing temporary security zones around the HMCS WHITEHORSE (NCSM 705), HMCS NANAIMO (NCSM 702), and the USCGC MELLON (WHEC 717) which include all waters within 500 yards from these vessels while each vessel is participating in the Seafair Fleet Week Parade of Ships and while moored following the parade until departing on August 8, 2011. These security zones are necessary to help ensure the security of the vessels from sabotage or other subversive acts during Seafair Fleet Week Parade of Ships and will do so by prohibiting any person or vessel from entering or remaining in the security zones unless authorized by the Captain of the Port (COTP), Puget Sound or Designated Representative.

DATES: This rule is effective from 8 a.m. on August 3, 2011, through 5 p.m. on August 8, 2011.

ADDRESSES: Documents indicated in this preamble as being available in the docket are part of docket USCG-2011-0505 and are available online by going to http://www.regulations.gov, inserting USCG-2011-0505 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail Ensign Anthony P. LaBoy, Sector Puget Sound, Waterways Management Division, US Coast Guard; telephone 206-217-6323, e-mail SectorPugetSoundWWM@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because publishing an NPRM would be impracticable due to the time required to finalize the list of event participants.

Under 5 U.S.C. 553(d)(3), the Coast Guard finds that good cause exists for making this rule effective less than 30 days after publication in the Federal Register. Delaying the effective date would be contrary to the public interest because immediate action is necessary to protect the vessels that will be transiting in the parade.

Basis and Purpose

Seattle's Seafair Fleet Week is an annual event which brings a variety of vessels to Seattle. During the event, the visiting military vessels are at risk because of their inherent military function, and because they will be transiting in the Parade of Ships in close proximity to spectators, highly populated areas, and other vessels. This rule is necessary to ensure the security of visiting foreign and domestic military vessels not covered under the Naval Vessel Protection Zone (NVPZ). See 33 CFR part 165, subpart G. The size of these security zones is necessary to ensure the security of the visiting vessels is equivalent to the vessels protected by the NVPZ. While participating in the Parade of Ships it is important for the on scene patrol to have a consistent zone size for all participating ships. The security zones will help prevent any acts which would harm the vessels and their crew and endanger vessels, property, and persons along the parade route.

Discussion of Rule

The temporary security zones established by this rule will prohibit any person or vessel from entering or remaining within 500 yards of the HMCS WHITEHORSE (NCSM 705), HMCS NANAIMO (NCSM 702), and the USCGC MELLON (WHEC 717) while these vessels are participating in the Parade of Ships and while moored at Pier 66, Terminal 25, and Terminal 46. The COTP has granted general permission for vessels to enter the outer 400 yards of the security zone, so long as any vessels doing so operate at the minimum speed necessary to maintain course. In the event the COTP must revoke the general permission to enter, notice will be provided to the public via a Broadcast Notice to Mariners. The security zones will be enforced by Coast Guard personnel. The COTP may also be assisted in the enforcement of the zones by other federal, state, or local agencies.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

The Coast Guard bases this finding on the fact that the security zones will be in place for a limited period of time and vessel traffic will be able to transit around the security zones. Maritime traffic may also request permission to transit through the zones from the COTP, Puget Sound or a Designated Representative.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities; the owners and operators of vessels intending to operate in the waters covered by the security zones while they are in effect. The rule will not have a significant economic impact on a substantial number of small entities because the security zones will be in place for a limited period of time and maritime traffic will still be able to transit around the security zones. Maritime traffic may also request permission to transit though the zones from the COTP, Puget Sound or Designated Representative.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA)(42 U.S.C. 4321-4370f), and have concluded this action is one of a category of actions that do not individually or cumulatively have a significant effect on the human environment. This rule is categorically excluded, under figure 2-1, paragraph (34)(g), of the Instruction. This rule involves the establishment of security zones. An environmental analysis checklist and a categorical exclusion is available in the docket where indicated under ADDRESSES.

List of Subjects in 33 CFR Part 165

Harbors, Marine safety, Navigation (water), Reporting and record keeping requirements, Security measures, Waterways.

For the reasons discussed in the preamble, the Coast Guard amends 33 CFR Part 165, as follows:

PART 165—REGULATED NAVIGATION AREAS AND LIMITED ACCESS AREAS

1. The authority citation for Part 165 continues to read as follows:

Authority: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1

2. Add § 165.T13-186 to read as follows:

§ 165.T13-186 Security Zone; 2011 Seattle Seafair Fleet Week Moving Vessels, Puget Sound, Washington

(a) Location. The following areas are security zones: All waters within the Captain of the Port Puget Sound Zone encompassed within 500 yards of the HMCS WHITEHORSE (NCSM 705), HMCS NANAIMO (NCSM 702), and the USCGC MELLON (WHEC 717) while each vessel is participating in the Seafair Fleet Week Parade of Ships and while moored at Pier 66, Terminal 25, and Terminal 46, Elliott Bay, Seattle, WA.

(b) Regulations. In accordance with the general regulations in 33 CFR Part 165, Subpart D, no person or vessel may enter or remain in the security zones without the permission of the COTP or Designated Representative. The COTP has granted general permission for vessels that operate at the minimum speed necessary to maintain course to enter the outer 400 yards of the security zone. In the event the COTP must revoke the general permission to enter, notice will be provided to the public via a Broadcast Notice to Mariners. See 33 CFR Part 165, Subpart D, for additional requirements. The COTP may be assisted by other federal, state or local agencies with the enforcement of the security zones.

(c) Authorization. All vessel operators who desire to transit through the outer 400 yards of the security zones at greater than minimum speed necessary to maintain course, enter the inner 100 yards of the security zones, or enter any portion of the security zones when general permission to transit through outer 400 yards of the security zones at minimum speed necessary to maintain course has been revoked must obtain permission from the COTP or Designated Representative by contacting the on-scene Coast Guard patrol craft on VHF 13 or Ch 16. Requests must include the reason why movement within the security zones is necessary. Vessel operators granted permission to enter the security zones will be escorted by the on-scene Coast Guard patrol craft until they are outside of the security zones, except that vessels operating in the security zones under general permission to transit through the outer 400 yards of the security zones at minimum speed necessary to maintain course will not be escorted.

(d) Enforcement period. This rule is effective from 8 a.m. on August 3, 2011, through 5 p.m. on August 8, 2011.

Dated: June 27, 2011.
S.J. Ferguson,
Captain, U.S. Coast Guard, Captain of the Port, Puget Sound.

[FR Doc. 2011-17261 Filed 7-8-11; 8:45 am]

BILLING CODE 9110-04-P